DEPARTMENT OF JUSTICE

Office of Justice Programs

[OMB Number 1121-NEW]

Agency Information Collection Activities: Proposed Collection; Comments Requested; Office for Victims of Crime Trafficking Information Management System (TIMS)

ACTION: 60-Day Notice of Information Collection Under Review.

The Department of Justice, Office of Justice Programs, Office for Victims of Crime, will submit the following information collection request to the Office of Management and Budget (OMB) for review and approval in accordance with the Paperwork Reduction Act of 1995. The proposed information collection is published to obtain comments from the public and affected agencies. Comments are encouraged and will be accepted for 60 days until October 14, 2011. This process is conducted in accordance with 5 CFR 1320.10.

If you have comments, especially on the estimated public burden or associated response time, suggestions, or need a copy of the proposed information collection instrument with instructions or additional information, please contact Pamela Leupen, Associate Director, National Training and Program Development (NTPD), Office for Victims of Crime, Office of Justice Programs, Department of Justice, 810 7th Street, NW., Washington, DC 20530.

Written comments and suggestions from the public and affected agencies concerning the proposed collection of information are encouraged. Your comments should address one or more of the following four points:

(1) Evaluate whether the proposed collection of information is necessary for the proper performance of the functions of the agencies/components, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information Collection

(1) Type of Information Collection: New Collection.

(2) The Title of the Form/Collection: Trafficking Information Management System (TIMS) Online.

(3) The Agency form number, if any, and the applicable component of the Department of Justice sponsoring the collection: Form Number(s): N/A. Office for Victims of Crime, Office of Justice Programs, Department of Justice.

(4) Affected public who will be asked or required to respond, as well as a brief abstract. Primary: OVC Services to Victims of Human Trafficking Grant recipients (OVC Grantees). Abstract: The OVC Trafficking Information Management System (TIMS) Online is a Web-based database and reporting system, designed to simplify performance reporting required by the OVC Services to Victims of Human Trafficking Grant Initiative. Once approved, OVC will require OVC Grantees to use this electronic tool to submit grant performance data, including demographics about human trafficking victims. OVC intends to publish an annual analysis of these data to provide the crime victims' field with stronger evidence for practices and programs.

(5) An estimate of the total number of respondents and the amount of time estimated for an average respondent to respond/reply: There are approximately 30-38 OVC Services to Victims of Human Trafficking Grantees per six-month reporting period. On average, it should take each grantee one hour to seven hours, depending on client case load per reporting period, to enter information into TIMS Online. There are two reporting periods per year.

(6) An estimate of the total public burden (in hours) associated with the collection: There is no public burden associated with the collection. This system only pertains to OVC grantees.

If additional information is required contact: Jerri Murray, Department Clearance Officer, United States Department of Justice, Planning and Policy Staff, Justice Management Division, Two Constitution Square, 145 N Street, NE., Room 2E-508, Washington, DC 20530.

Jerri Murray,
Department Clearance Officer, United States Department of Justice.

[FR Doc. 2011-20626 Filed 8-12-11; 8:45 am]

BILLING CODE 4410-18-P